DEPARTMENT OF COMMERCE

International Trade Administration

[A-201-836]

Light-Walled Rectangular Pipe and Tube From Mexico: Amended Final Results of Antidumping Duty Administrative Review; 2018-2019

AGENCY: Enforcement and Compliance, International Trade Administration, Department of Commerce

SUMMARY: The Department of Commerce (Commerce) is amending the final results of the administrative review of the antidumping duty (AD) order on light-walled rectangular pipe and tube from Mexico to correct certain ministerial errors. The period of review is August 1, 2018, through July 31, 2019.

DATES: Applicable August 3, 2021.

FOR FURTHER INFORMATION CONTACT: Kyle Clahane or John Conniff, AD/CVD Operations, Office III, Enforcement and Compliance, International Trade Administration, U.S. Department of Commerce, 1401 Constitution Avenue NW, Washington, DC 20230; telephone: (202) 482-5449 or (202) 482-1009, respectively.

SUPPLEMENTARY INFORMATION:

Background

On June 25, 2021, the Department of Commerce (Commerce) published its Final Results of the 2018-2019 administrative review of the AD order on light-walled rectangular pipe and tube from Mexico.¹ On July 6, 2021, Maquilacero S.A. de C.V (Maquilacero), one of the respondents in this administrative review, timely submitted ministerial error comments regarding Commerce's Final Results.² On July 8, 2021, Nucor Tubular Products, Inc., a domestic interested party, filed rebuttal comments concerning Maquilacero's allegations.³ On July 12, 2021, Maquilacero filed ministerial error surrebuttal comments.⁴ Commerce is amending its Final Results to correct certain ministerial errors alleged by Maquilacero.

¹ See Light-Walled Rectangular Pipe and Tube from Mexico: Final Results of Antidumping Duty Administrative Review; 2018-2019, 86 FR 33646 (June 25, 2021) (Final Results), and accompanying Issues and Decision Memorandum.

² See Maquilacero's Letter, “Maquilacero S.A. de C.V.'s Ministerial Error Comments for the Final Results,” dated July 6, 2021.

³ See Nucor's Letter, “Comments on Maquilacero's Ministerial Errors,” dated July 8, 2021.

⁴ See Maquilacero's Letter, “Maquilacero S.A. de C.V.'s Rebuttal Ministerial Error Comments for the Final Results,” dated July 12, 2021.

Legal Framework

A ministerial error, as defined in section 751(h) of the Tariff Act of 1930, as amended (the Act), includes “errors in addition, subtraction, or other arithmetic function, clerical errors resulting from inaccurate copying, duplication, or the like, and any other type of unintentional error which the [Commerce] considers ministerial.” ⁵ With respect to final results of administrative reviews, 19 CFR 351.224(e) provides that Commerce “will analyze any comments received and, if appropriate, correct any ministerial error by amending . . . the final results of review. . . .”

⁵ See also 19 CFR 351.224(f).

Ministerial Errors

Commerce committed inadvertent, unintentional errors within the meaning of section 751(h) of the Act and 19 CFR 351.224(f) with respect to an adjustment to the currency conversion of the gross unit price for certain of Maquilacero's home market sales, an adjustment to Maquilacero's scrap offset, the duplication of certain computer programming steps concerning Maquilacero's costs of production, and an adjustment to the further processing costs of Maquilacero's affiliate Tecnicas de Fluidos S.A. de C.V. Accordingly, Commerce determines that, in accordance with section 751(h) of the Act and 19 CFR 351.224(f), it made certain ministerial errors in the Final Results.

For a complete description and analysis of Maquilacero's ministerial error allegations, please see the accompanying Ministerial Error Allegations Memorandum.⁶ The Ministerial Error Allegations Memorandum is a public document and is on file electronically via Enforcement and Compliance's Antidumping and Countervailing Duty Centralized Electronic Service System (ACCESS). ACCESS is available to registered users at https://access.trade.gov.

⁶ See Memorandum, “Antidumping Duty Administrative Review of Light-Walled Rectangular Pipe and Tube from Mexico; 2018-2019: Ministerial Error Allegations,” dated concurrently with, and hereby adopted by, this notice (Ministerial Error Allegations Memorandum).

Pursuant to 19 CFR 351.224(e), Commerce is amending the Final Results to reflect the correction of certain ministerial errors in the calculation of the weighted-average dumping margin assigned to Maquilacero in the Final Results, which changes from 4.23 percent to 3.13 percent.⁷ Furthermore, we are revising the review-specific, weighted-average dumping margin applicable to the companies not selected for individual examination in this administrative review, which is based, in part, on Maquilacero's weighted-average dumping margin.⁸ For the companies which were not selected for individual examination, we have calculated their weighted-average dumping margin as the weighted average of the weighted-average dumping margins determined for the two mandatory respondents where the weights are the publicly ranged quantities sold by each of the mandatory respondents.

⁷ Id.

⁸ In the case of two mandatory respondents, our practice is to calculate: (A) A weighted average of the dumping margins calculated for the mandatory respondents; (B) a simple average of the dumping margins calculated for the mandatory respondents: and (C) a weighted average of the dumping margins calculated for the mandatory respondents using each company's publicly ranged values for the merchandise under consideration. We compare (B) and (C) to (A) and select the rate closest to (A) as the most appropriate rate for all other companies. See Certain Crystalline Silicon Photovoltaic Products from Taiwan: Final Results of Antidumping Duty Administrative Review; 2014-2016, 82 FR 31555, 31556 (July 7, 2017). We have applied that practice here. See Memorandum, “Calculation of Margin for Respondents Not Selected for Individual Examination,” dated concurrently with this notice.

Amended Final Results of the Review

As a result of correcting these ministerial errors, Commerce determines that, for the period of August 1, 2018, through July 31, 2019, the following weighted-average dumping margins exist:

Exporter or producer | Weighted-average dumping margin (percent)
Maquilacero S.A. de C.V. and Tecnicas de Fluidos S.A. de C.V. | 3.13
Regiomontana de Perfiles y Tubos S. de R.L. de C.V. (formerly Regiomontana de Perfiles y Tubos S.A. de C.V.) 9 10 | 5.44
Aceros Cuatro Caminos S.A. de C.V. | 4.44
Fabricaciones y Servicios de Mexico | 4.44
Grupo Estructuras y Perfiles | 4.44
Perfiles LM, S.A. de C.V. | 4.44
Productos Laminados de Monterrey S.A. de C.V. | 4.44

Disclosure

We intend to disclose the calculation performed for these amended final results in accordance with 19 CFR 351.224(b).

⁹ In the Final Results, we determined that Regiomontana de Perfiles y Tubos S. de R.L. de C.V. to be successor-in-interest to Regiomontana de Perfiles y Tubos S.A. de C.V.

¹⁰ The weighted-average dumping margin for Regionmontana de Perfiles y Tubos S. de R.L. de C.V. remains unchanged from the Final Results.

Antidumping Duty Assessment

Pursuant to section 751(a)(2)(C) of the Act and 19 CFR 351.212(b)(1), Commerce has determined, and U.S. Customs and Border Protection (CBP) shall assess, antidumping duties on all appropriate entries of subject merchandise in accordance with these amended final results of the administrative review.

In accordance with 19 CFR 351.212(b)(1), Maquilacero and Regiomontana de Perfiles y Tubos S. de R.L. de C.V. reported the entered value of their U.S. sales such that we calculated importer-specific ad valorem AD assessment rates based on the ratio of the total amount of dumping calculated for the examined sales for each importer to the total entered value of the sales for each importer. Where an importer-specific AD assessment rate is zero or de minimis within the meaning of 19 CFR 351.106(c)(1), Commerce will instruct CBP to liquidate the appropriate entries without regard to antidumping duties. Commerce's “automatic assessment” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.¹¹

¹¹ See Antidumping and Countervailing Duty Proceedings: Assessment of Antidumping Duties, 68 FR 23954 (May 6, 2003).

For the companies which were not selected for individual examination, we will instruct CBP to assess antidumping duties at an ad valorem assessment rate equal to the weighted-average dumping margins determined in these amended final results.

The amended final results of this review shall be the basis for the assessment of antidumping duties on entries of merchandise covered by the amended final results of this review and for future deposits of estimated duties, where applicable.¹² Commerce intends to issue assessment instructions to CBP no earlier than 41 days after the date of publication of the amended final results of this review in the Federal Register, in accordance with 19 CFR 356.8(a).

¹² See section 751(a)(2)(C) of the Act.

Cash Deposit Requirements

The following cash deposit requirements will be effective retroactively for all shipments of subject merchandise that entered, or were withdrawn from warehouse, for consumption on or after June 25, 2021, the date of publication of the Final Results of this administrative review, as provided for by section 751(a)(2)(C) of the Act: (1) The cash deposit rate for the companies listed above will be equal to the weighted-average dumping margin established in these amended final results of review; (2) for producers or exporters not covered in this review but covered in a prior segment of the proceeding, the cash deposit rate will continue to be the company-specific rate published for the most recently completed segment of this proceeding; (3) if the exporter is not a firm covered in this review or another completed segment of this proceeding, but the producer is, then the cash deposit rate will be the rate established for the most recently completed segment of this proceeding for the producer of the merchandise; and (4) if neither the exporter nor the producer is a firm covered in this or any previously completed segment of this proceeding, then the cash deposit rate will be the all-others rate of 3.76 percent established in the less-than-fair-value investigation.¹³

¹³ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403 (August 5, 2008).

These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in the Commerce's presumption that reimbursement of antidumping duties occurred and the subsequent assessment of double antidumping duties.

Administrative Protective Order

This notice also serves as a reminder to parties subject to administrative protective orders (APO) of their responsibility concerning the disposition of proprietary information disclosed under APO in accordance with 19 CFR 351.305(a)(3), which continues to govern business proprietary information in this segment of the proceeding. Timely written notification of return or destruction of APO materials or conversion to judicial protective order is hereby requested. Failure to comply with the regulations and the terms of an APO is a sanctionable violation.

Notification to Interested Parties

The amended final results and notice are issued and published in accordance with sections 751(h) and 777(i) of the Act and 19 CFR 351.224(e).

Dated: July 28, 2021.
Christian Marsh,
Acting Assistant Secretary for Enforcement and Compliance.

[FR Doc. 2021-16494 Filed 8-2-21; 8:45 am]

BILLING CODE 3510-DS-P